DEPARTMENT OF LABOR

Employment and Training Administration

[TA-W-72,582]

General Motors Corporation, Powertrain Flint North, Including On-Site Leased Workers From Allegis Group Services, Securitas and Knight Management, Flint, MI; Amended Certification Regarding Eligibility To Apply for Worker Adjustment Assistance

In accordance with section 223 of the Trade Act of 1974, as amended (“Act”), 19 U.S.C. 2273, the Department of Labor issued a Certification of Eligibility to Apply for Worker Adjustment Assistance on July 9, 2010, applicable to workers of General Motors Corporation, Powertrain Flint North, including on-site leased workers from Allegis Group Service, Flint, Michigan. The notice was published in the Federal Register on July 26, 2010 (75 FR 43558).

At the request of a company official, the Department reviewed the certification for workers of the subject firm. The workers are engaged in the production of component parts (transmission and engine components and deck and door locks).

The company reports that workers leased from Securitas and Knight Management were employed on-site at the Flint, Michigan location of General Motors Corporation, Powertrain Flint North. The Department has determined that these workers were sufficiently under the control of General Motors Corporation, Powertrain Flint North to be considered leased workers.

Based on these findings, the Department is amending this certification to include workers leased from Securitas and Knight Management working on-site at the Flint, Michigan location of General Motors Corporation, Powertrain Flint North.

The amended notice applicable to TA-W-72,582 is hereby issued as follows:

All workers of General Motors Corporation, Powertrain Flint North, including on-site leased workers from Allegis Group Services, Securitas and Knight Management Flint, Michigan, who became totally or partially separated from employment on or after October 2, 2008, through July 9, 2012, and all workers in the group threatened with total or partial separation from employment on the date of certification through two years from the date of certification, are eligible to apply for adjustment assistance under Chapter 2 of Title II of the Trade Act of 1974, as amended.

Signed at Washington, DC, this 18th day of November 2010.
Del Min Amy Chen.
Certifying Officer, Office of Trade Adjustment Assistance.

[FR Doc. 2010-30544 Filed 12-6-10; 8:45 am]

BILLING CODE 4510-FN-P